DEPARTMENT OF HEALTH AND HUMAN SERVICES

National Institutes of Health

Center for Scientific Review; Amended Notice of Meeting

Notice is hereby given of a change in the meeting of the Skeletal Biology Structure and Regeneration Study Section, October 8, 2013, 8:00 a.m. to October 9, 2013, 5:30 p.m., Admiral Fell Inn, 888 South Broadway, Baltimore, MD 21231 which was published in the Federal Register on October 3, 2013, 78 FR 192 Pgs. 61376-61377.

The meeting will start on November 19, 2013 at 7:30 a.m. and will end on November 19, 2013 at 7:30 p.m. The meeting location remains the same. The meeting is closed to the public.

Dated: October 24, 2013.
Carolyn A. Baum,
Program Analyst, Office of Federal Advisory Committee Policy.

[FR Doc. 2013-25658 Filed 10-29-13; 8:45 am]

BILLING CODE 4140-01-P